DEPARTMENT OF HEALTH AND HUMAN SERVICES

Centers for Disease Control and Prevention

Requirement for Negative Pre-Departure COVID-19 Test Result for All Airline Passengers Arriving Into the United States From the United Kingdom

AGENCY: Centers for Disease Control and Prevention (CDC), Department of Health and Human Services (HHS).

ACTION: Notice of Agency Order.

SUMMARY: The Centers for Disease Control and Prevention (CDC), a component of the U.S. Department of Health and Human Services (HHS), announces an Agency Order requiring negative pre-departure COVID-19 test results for all airline passengers arriving into the United States from the United Kingdom (UK). This Order is issued to preserve human life; prevent the further introduction, transmission, and spread of the virus that causes COVID-19 into the United States, including new virus variants; preserve the health and safety of airline crew members, passengers, airport personnel, and communities; and preserve hospital, healthcare, and emergency response resources within the United States.

DATES: This Order was effective December 27, 2020 at 7:01 p.m. EST (12:01 a.m. December 28, 2020 GMT). See SUPPLEMENTARY INFORMATION for the conditions under which the Order will expire.

FOR FURTHER INFORMATION CONTACT: Jennifer Buigut, Division of Global Migration and Quarantine, Centers for Disease Control and Prevention, 1600 Clifton Road NE, MS H16-4, Atlanta, GA 30329. Email: dgmqpolicyoffice@cdc.gov.

SUPPLEMENTARY INFORMATION: On December 14, 2020, Public Health England announced that a new variant of SARS-CoV-2 had been identified across the southeast of England (i.e., Kent and the surrounding areas). While it is known and expected that viruses change through mutation leading to the emergence of new variants, preliminary analysis in the UK suggests that this SARS-CoV-2 variant may be more transmissible than previously circulating variants. Pre-departure testing may detect travelers infected with SARS-CoV-2 before they initiate their travel and may reduce the risk of transmission. Therefore, urgent efforts are needed to mitigate the potential spread of this new virus variant into the United States.

This Order establishes requirements for (1) airlines arriving into the United States from the UK; and (2) passengers departing the United Kingdom with a final destination in the United States.

A copy of the Order and Attachment A are provided below and a copy of the signed order can be found at https://www.cdc.gov/quarantine/testing-requirement-for-arriving-UK-air-travelers.html.

Centers for Disease Control and Prevention Department of Health and Human Services

Order Under Section 361 of the Public Health Service Act (42 U.S.C. 264) and 42 Code of Federal Regulations 71.20 & 71.31(b)

Requirement for Negative Pre-Departure Covid-19 Test Result for All Airline Passengers Arriving Into the United States From the United Kingdom (UK)

Summary

Pursuant to 42 CFR 71.20 and as set forth in greater detail below, this Notice and Order prohibit the introduction into the United States of any airline passenger departing from the UK unless the passenger has a negative pre-departure test result for COVID-19. The test must be a viral test that was conducted on a specimen collected during the 3 calendar days preceding the flight's departure (Qualifying Test). Passengers must retain written or electronic documentation reflecting the negative Qualifying Test result presented to the airline and produce such results upon request to any U.S. government official or a cooperating state or local public health authority.

Pursuant to 42 CFR 71.31(b) and as set forth in greater detail below, this Notice and Order constitutes a controlled free pratique to any airline with an aircraft arriving into the United States from the UK. Pursuant to the controlled free pratique, the airline must comply with the following conditions in order to receive permission for the aircraft to enter and disembark passengers in the United States:

• Airline must verify that every passenger—2 years of age or older—onboard the flight has attested to having received a negative Qualifying Test result.

• Airline must confirm that every passenger onboard the aircraft has documentation reflecting a negative Qualifying Test result.

Statement of Intent

This Order shall be interpreted and implemented in a manner as to achieve the following paramount objectives:

• Preservation of human life;

• Preventing the further introduction, transmission, and spread of the virus that causes COVID-19 into the United States, including new virus variants;

• Preserving the health and safety of airline crew members, passengers, airport personnel, and communities; and

• Preserving hospital, healthcare, and emergency response resources within the United States.

Definitions

Airline shall have the same definition as under 42 CFR 71.1(b).

Attest/Attestation means having completed the attestation in Attachment A. Such attestation may be completed in written or electronic form. The attestation is a statement, writing, entry, or other representation under 18 U.S.C. 1001.

Confirm that every passenger onboard the aircraft has documentation reflecting a negative Qualifying Test result means confirmation that:

(1) The personal identifiers (e.g., name and date of birth) on the Qualifying Test result match the personal identifiers on the passenger's passport or other travel documents;

(2) the specimen was collected within 3 calendar days of the flight's departure;

(3) the test performed was a viral test (as defined below); and

(4) the test result states “NEGATIVE,” “SARS-CoV-2 RNA NOT DETECTED,” or “SARS-CoV-2 ANTIGEN NOT DETECTED.”

Negative Pre-departure Test Result for COVID-19 or negative Qualifying Test result means documentation of a negative COVID-19 test taken within 3 calendar days of a flight's departure. Such documentation may be in paper or electronic formats as required by this Order. Testing must be performed using a viral test. The documentation must include sufficient verification information—such as the name and contact information for the laboratory or healthcare personnel who performed the test.

United Kingdom means the United Kingdom of Great Britain and Northern Ireland, commonly known as the United Kingdom and consisting of the countries of England, Scotland, Wales, and Northern Ireland.

United States has the same meaning as in 42 CFR 71.1(b).

Viral test means a viral detection test for current infection (i.e., a nucleic acid amplification test or a viral antigen test) approved or authorized by the relevant national authority for the detection of SARS-CoV-2.

Exemptions

The following categories of individuals are exempt from the requirements of this Order:

• Airline crew members provided that they follow industry standard protocols for the prevention of COVID-19 as set forth in relevant Safety Alerts for Operators (SAFOs) issued by the Federal Aviation Administration (FAA).¹

¹ https://www.faa.gov/other_visit/aviation_industry/airline_operators/airline_safety/safo/all_safos/media/2020/SAFO20009.pdf.

• Passengers who originate on flights outside the UK but connect through an airport in the UK on a transit flight with a connection time of no more than 24 hours.

Background

The COVID-19 pandemic has spread throughout the world. Individuals who travel may be at risk for exposure to SARS-CoV-2, the virus that causes COVID-19, before, during, and after travel. This could result in travelers further spreading the virus to others during travel, upon arrival in the United States, and at their destinations.

Over the last few weeks, the UK has faced a rapid increase in COVID-19 cases in South East England, leading to enhanced epidemiological and virological investigations. On December 14, 2020, Public Health England announced that a new variant of SARS-CoV-2 had been identified across the southeast of England (i.e., Kent and the surrounding areas).²

² https://www.gov.uk/government/news/phe-investigating-a-novel-variant-of-covid-19.

While it is known and expected that viruses constantly change through mutation leading to the emergence of new variants, preliminary analysis in the UK suggests that this SARS-CoV-2 variant may be more transmissible than previously circulating variants, with an estimated potential to increase the reproductive number (R0) by 0.4 or greater with an estimated increased transmissibility of up to 70 percent.³ This new variant has emerged at a time of the year when there has traditionally been increased family and social mixing, and travel.

³ https://www.ecdc.europa.eu/en/publications-data/threat-assessment-brief-rapid-increase-sars-cov-2-variant-united-kingdom.

On December 19, 2020, in response to the emergence of this new variant, the countries comprising the UK announced stricter measures to be applied from December 20 and over the coming weeks, with affected areas going into a `Tier 4' level with movement restrictions within and between more and less heavily affected areas. These measures have included recommendations for residents of the most affected areas to restrict movements and travel, including international travel, outside of these areas. The government of Scotland announced a travel ban between Scotland and the rest of the UK. In addition, the Netherlands issued a travel ban from the UK effective through January 1, 2021, and Belgium halted flight and train travel from the UK. Other countries have taken similar measures to restrict travel from the UK.⁴

⁴ On December 20, 2020, Austria, Belgium, Italy, Ireland, Germany, France, and the Netherlands announced travel bans from the United Kingdom. The measures vary in scope and generally are short-term. The Republic of Ireland, Portugal, Latvia, Estonia, and Czech Republic also announced new travel restrictions, testing requirements, and quarantine rules. Bulgaria suspended flights to and from the UK until January 31, 2021, one of the longer bans announced. Greece issued new rules requiring a seven-day quarantine for travelers from the UK, rather than the current three-day period, starting December 21, 2020. Turkey has temporarily banned all flights from the UK, as has Switzerland.

On March 14, 2020, the United States issued a “Proclamation on the Suspension of Entry as Immigrants and Nonimmigrants of Certain Additional Persons Who Pose a Risk of Transmitting Coronavirus” applicable to the UK.⁵ While this suspension remains in place and has slowed the introduction of travelers into the United States from the UK, the suspension does not apply to U.S. persons and contains other exemptions for eligible travelers. Thus, urgent efforts are needed to mitigate the potential spread of this new virus variant into the United States.

⁵ https://www.whitehouse.gov/presidential-actions/proclamation-suspension-entry-immigrants-nonimmigrants-certain-additional-persons-pose-risk-transmitting-coronavirus-2/.

Pre-departure testing may detect travelers infected with SARS-CoV-2 before they initiate their travel. CDC recommends viral testing and receipt of results 1-3 days ⁶ before departure for international travelers, particularly those traveling long distances or passing through transportation hubs such as airports where social distancing may be challenging. Such testing may reduce the risk of SARS-CoV-2 transmission. Testing does not eliminate all risk, but when pre-departure testing is combined with other measures such as self-monitoring for symptoms of COVID-19, wearing masks, social distancing, and hand hygiene, it can make travel safer by reducing spread on conveyances and in transportation hubs.

⁶ https://www.cdc.gov/coronavirus/2019-ncov/travelers/testing-air-travel.html.

CDC modeling indicates that pre-departure testing is most effective when combined with self-monitoring.⁷ Testing before departure results in the greatest reduction of transmission risk during travel when the specimen is collected close to the time of departure. Earlier testing (i.e., more than 3 days before travel) provides little benefit beyond what self-monitoring alone can provide. Travel should be delayed (i.e., individuals should self-isolate) if symptoms develop or a pre-departure test result is positive.⁸

⁷ Johansson MA, Wolford H., Paul P., et al. Reducing travel-related SARS-CoV-2 transmission with layered mitigation measures: Symptom monitoring, quarantine, and testing, available at https://www.medrxiv.org/content/10.1101/2020.11.23.20237412v1.

⁸ https://www.cdc.gov/coronavirus/2019-ncov/if-you-are-sick/end-home-isolation.html.

Action

For these reasons, I hereby determine that passengers covered by this Order are at risk of transmitting the new SARS-CoV-2 virus variant and that requiring such passengers to demonstrate negative COVID-19 test results is needed as a public health measure to protect the health of fellow travelers and U.S. communities.

1. Requirements for Airlines

Any airline operating aircraft with passengers arriving into the United States from the UK, for each passenger onboard the aircraft arriving into the United States, shall—

a. Verify that each passenger has attested to having received a negative Qualifying Test result. Airlines must retain a copy of each passenger attestation for 2 years. The attestation is attached to this order as Attachment A.

b. Confirm that each passenger aged 2 years or older has documentation of a negative Qualifying Test result.

c. Not board any passenger without verifying the attestation and confirming the documentation as set forth in 1.a-b.

Any airline that fails to comply with section 1, “Requirement for Airlines,” may be subject to criminal penalties under, inter alia, 42 U.S.C. 271 and 42 CFR 71.2, in conjunction with 18 U.S.C. 3559 and 3571.

2. Requirements for Passengers

Any passenger departing the UK with a final destination in the United States shall—

(a) Provide an attestation to the Centers for Disease Control and Prevention, through the airline, of having received a negative Qualifying Test result. The attestation is attached to this order as Attachment A. A parent or other legal guardian must attest on behalf of a passenger aged 2 to 17 years. An authorized individual may attest on behalf to any passenger who is unable to attest on his or her own behalf (e.g., by reason of physical or mental impairment).

(b) Retain a copy of the negative Qualifying Test result in his/her possession and present it for inspection to the airline and upon request by an agent of the U.S. government or a cooperating state or local public health authority.

Any passenger who fails to comply with the requirements of section 2, “Requirements for Passengers,” may be subject to criminal penalties under, inter alia, 42 U.S.C. 271 and 42 CFR 71.2, in conjunction with 18 U.S.C. 3559 and 3571. Willfully giving false or misleading information to the government may result in criminal penalties under, inter alia, 18 U.S.C. 1001.

CDC may modify this Order by an updated publication in the Federal Register or by posting an advisory to follow at www.cdc.gov.

This Order shall be enforceable through the provisions of 18 U.S.C. 3559, 3571; 42 U.S.C. 243, 268, 271; and 42 CFR 71.2.

Effective Date

This Order shall enter into effect on Sunday, December 27, 2020 at 7:01 p.m. (EST) (12:01 a.m. on Monday, December 28, 2020 (GMT)) and shall remain in effect until the earliest of (1) the expiration of the Secretary of Health and Human Services' declaration that COVID-19 constitutes a public health emergency; (2) the CDC Director rescinds or modifies the order based on specific public health or other considerations; or (3) March 26, 2021.

Attachment A

Passenger Disclosure and Attestation to the United States of America

All airlines covered by the Order must provide the following disclosure to passengers and collect the attestation prior to embarkation.

Airline Disclosure Requirement

As required by United States federal law, all airlines are required to confirm a negative COVID-19 test result and collect a passenger attestation on behalf of the U.S. Centers for Disease Control and Prevention (CDC) for certain passengers on aircraft departing from the United Kingdom and arriving in the United States.

Each individual 2 years of age or older must provide a separate attestation. A parent or other legal guardian must attest on behalf of a passenger aged 2 to 17 years. An individual may attest on behalf of another passenger for whom the individual is authorized to submit the required information (for example, immediate family member(s), legal guardian, or travel agent), if that person is unable to attest on his or her own behalf (e.g., because of physical or mental impairment).

The information provided must be accurate and complete to the best of the individual's knowledge.

Under United States federal law, each passenger must provide this attestation. Failure to provide this attestation, or submitting false or misleading information, could result in delay of travel, denial of boarding, denial of boarding on future travel, or put the passenger or other individuals at risk of harm, including serious bodily injury or death. Any passenger who fails to comply with these requirements may be subject to criminal penalties under, among others, 42 U.S.C. 271 and 42 CFR 71.2, in conjunction with 18 U.S.C. 3559 and 3571. Willfully providing false or misleading information may lead to criminal fines and imprisonment under, among others, 18 U.S.C. 1001. Providing this information can help protect you, your friends and family, your communities, and the United States. CDC appreciates your cooperation.

Passenger Attestation Requirement

I [name of passenger or authorized representative] have read the disclosure pertaining to my obligation to obtain a negative pre-departure test result for COVID-19 in order to board an aircraft departing from the UK and arriving in the United States.

[ ] I attest that I have received a negative pre-departure test result for COVID-19. The test was a viral test that was conducted on a specimen collected from me during the 3 calendar days preceding the flight's departure.

[ ] On behalf of [___], I attest that such person has received a negative pre-departure test result for COVID-19. The test was a viral test that was conducted on a specimen collected from that person during the 3 calendar days preceding the flight's departure.

Date

Privacy Act Statement

The United States (U.S.) Centers for Disease Control and Prevention (CDC) requires airlines to collect this information pursuant to 42 CFR 71.20, 71.31, and 71.32, as authorized by 42 U.S.C. 264. Providing this information is mandatory for all passengers arriving by air into the United States. Failure to provide this information may prevent you from boarding the plane. Additionally, passengers will be required to attest to providing complete and accurate information, and failure to do so may lead to other consequences, including criminal penalties. CDC will use this information to help prevent the introduction, transmission, and spread of communicable diseases by performing contact tracing investigations and notifying exposed individuals and public health authorities; and for health education, treatment, prophylaxis, or other appropriate public health interventions, including the implementation of travel restrictions.

The collection and use of this information is governed by The Privacy Act of 1974, 5 U.S.C. 552a. The information maintained by CDC will be covered by CDC's System of Records No. 09-20-0171, Quarantine- and Traveler-Related Activities, Including Records for Contact Tracing Investigation and Notification under 42 CFR parts 70 and 71. See 72 FR 70867 (Dec. 13, 2007), as amended by 76 FR 4485 (Jan. 25, 2011) and 83 FR 6591 (Feb. 14, 2018). CDC will only disclose information from the system outside the CDC and the U.S. Department of Health and Human Services as the Privacy Act permits, including in accordance with the routine uses published for this system in the Federal Register, and as authorized by law. Such lawful purposes may include but are not limited to sharing identifiable information with state and local public health departments, and other cooperating authorities. CDC and cooperating authorities will retain, use, delete, or otherwise destroy the designated information in accordance with federal law and the System of Records Notice (SORN) set forth above. You may contact the system manager at dgmqpolicyoffice@cdc.gov; Division of Global Migration and Quarantine, Centers for Disease Control and Prevention, 1600 Clifton Road NE, MS H16-4, Atlanta, GA 30329, if you have questions about CDC's use of your data.

Authority

The authority for these orders is Sections 361 and 365 of the Public Health Service Act (42 U.S.C. 264) and 42 CFR 71.20 & 71.31(b).

Nina B. Witkofsky,
Acting Chief of Staff, Centers for Disease Control and Prevention.

[FR Doc. 2020-28981 Filed 12-28-20; 4:15 pm]

BILLING CODE 4163-18-P